INTERNATIONAL TRADE COMMISSION

[Investigation No. 337-TA-1112]

Certain Radio Frequency Micro-Needle Dermatological Treatment Devices and Components Thereof; Commission Determination Not To Review an Initial Determination Terminating the Investigation in Its Entirety Based on a Settlement Agreement; Termination of the Investigation

AGENCY: U.S. International Trade Commission.

ACTION: Notice.

SUMMARY: Notice is hereby given that the U.S. International Trade Commission has determined not to review an initial determination (“ID”) (Order No. 45) of the presiding administrative law judge (“ALJ”) terminating the investigation as to the remaining respondents, EndyMed Medical Inc. of New York City, New York and EndyMed Medical Ltd. of Caesarea, Israel (“Endy”), based on a settlement agreement. The investigation is terminated.

FOR FURTHER INFORMATION CONTACT: Clint Gerdine, Esq., Office of the General Counsel, U.S. International Trade Commission, 500 E Street SW, Washington, DC 20436, telephone (202) 708-2310. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on May 15, 2018, based on a complaint filed on behalf of Syneron Medical Ltd. of Yokneam Illit, Israel; Candela Corporation of Wayland, Massachusetts; and Massachusetts General Hospital of Boston, Massachusetts. 83 FR 22515-16 (May 15, 2018). The complaint, as supplemented, alleges violations of section 337 of the Tariff Act of 1930, as amended, 19 U.S.C. 1337, based upon the importation into the United States, the sale for importation, and the sale within the United States after importation of certain radio frequency micro-needle dermatological treatment devices and components thereof by reason of infringement of certain claims of U.S. Patent Nos. 9,510,899 (“the '899 patent”) and 9,095,357. The Commission's notice of investigation named several respondents including Endy; Invasix, Inc. and Inmode Md, Ltd. of Lake Forest, California; Lumenis Ltd. and Invasix, Ltd. of Yokneam, Israel; Ilooda Co., Ltd. and Lutronic Corp. of Gyeonggi-do, Republic of Korea; Cutera, Inc. of Brisbane, California; Emvera Technologies, LLC of Cedartown, California; Rohrer Aesthetics, LLC of Homewood, Alabama; Lutronic, Inc. of Billerica, Massachusetts; Sung Hwan E&B Co., Ltd. d/b/a SHEnB Co., Ltd. and Jeisys Medical, Inc. of Seoul, Republic of Korea; Aesthetics Biomedical, Inc. of Phoenix, Arizona; Cartessa Aesthetics of Hockessi, Delaware; Perigee Medical Center LLC of Tracy, California; and Pollogen, Ltd. of Tel Aviv-Jaffa, Israel. The Office of Unfair Import Investigations is not participating in the investigation. All other respondents have been terminated from the investigation based on settlement agreement. See Order No. 43 (July 23, 2019), unreviewed by Comm'n Notice (Aug. 13, 2019); Order No. 23 (April 9, 2019), unreviewed by Comm'n Notice (May 7, 2019); Order No. 20 (Mar. 26, 2019), unreviewed by Comm'n Notice (Apr. 16, 2019); Order No. 18 (Mar. 20, 2019), unreviewed by Comm'n Notice (Apr. 11, 2019); Order No. 16 (Mar. 6, 2019), unreviewed by Comm'n Notice (Mar. 27, 2019); Order No. 15 (Feb. 22, 2019), unreviewed by Comm'n Notice (Mar. 21, 2019).

On September 4, 2019, Complainants and Endy jointly moved to terminate the investigation based on a settlement agreement.

On September 11, 2019, the ALJ issued the subject ID (Order No. 45), granting the joint motion terminating the investigation in its entirety based on settlement agreement. She found that the motion for termination satisfied Commission Rule 210.21, 19 CFR 210.21, and that termination of the investigation is not contrary to the public interest. No party petitioned for review.

The Commission has determined not to review the subject ID. The investigation is terminated.

The authority for the Commission's determination is contained in section 337 of the Tariff Act of 1930, as amended, 19 U.S.C. 1337, and in Part 210 of the Commission's Rules of Practice and Procedure, 19 CFR part 210.

By order of the Commission.
Issued: October 3, 2019.
Lisa Barton,
Secretary to the Commission.

[FR Doc. 2019-21981 Filed 10-8-19; 8:45 am]

BILLING CODE 7020-02-P